DEPARTMENT OF TRANSPORTATION

Research and Special Programs Administration

Office of Hazardous Materials Safety Notice of Applications for Exemptions

AGENCY: Research and Special Programs Administration, DOT.

ACTION: List of applicants for exemptions.

SUMMARY: In accordance with the procedures governing the application for, and the processing of, exemptions from the Department of Transportation's Hazardous Material Regulation (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger—carrying aircraft.

DATES: Comments must be received on or before November 28, 2001.

ADDRESSES COMMENTS TO: Records Center, Research and Special Programs, Administration, U.S. Department of Transportation, Washington, DC. 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW. Washington, DC 20590 or at http://dms.dot.gov.

This notice of receipt of applications for new exemptions is published in accordance with Part 107 of the Federal hazardous materials transportation law (49 U.S.C. 5117(b); 49 CFR 1.53(b)).

Issued in Washington, DC, on October 23, 2001.
J. Suzanne Hedgepeth,
Director, Office of Hazardous Materials, Exemptions and Approvals.

NEW EXEMPTIONS
Application No. | Docket No. | Applicant | Regulation(s) affected | Nature of exemption thereof
12838-N | RSPA-01-10859 | City Machine & Welding, Inc., Amarillo, TX | 49 CFR 173.302, 173.34 | To authorize the transportation in commerce of certain DOT Specification 3AA, 3AAX and 3T cylinders which have been alternatively ultrasonically retested. (modes 1, 2, 3)
12840-N | RSPA-01-10858 | GreenField Compression, Inc., Richardson, TX | 49 CFR 173.314 | To authorize the transportation in commerce of DOT-107A specification seamless steel tank car tanks containing hydrogen, compressed, Division 2.1. (mode 1)
12841-N | RSPA-01-10860 | FIBA Technologies, Inc., Westboro, MA | 49 CFR 172.101, 178.338-10, 178.338-13, 178.338-2(c), 178.338-6(a), 178.338-9(b) | To authorize the manufacture, marking, sale and use of an IMO Type 7/US DOT MC 338 tank permanently fitted within an ISO frame for use in transporting various hazardous materials. (modes 1, 2)
12842-N | RSPA-01-10751 | Giant Resource Recovery Aerosols, Inc. (GRR), Summerville, SC | 49 CFR 175.10(b)(2) | To authorize the transportation in commerce of aerosols, in specially designed containers for use in transporting Division 2.1 and 2.2 gases to collection site for recycling. (mode 1)
12843-N | RSPA-01-10752 | United States Enrichment Corporation, Bethesda, MD | 49 CFR 173.420(a) (b) & (c) | To authorize the transportation in commerce of 48X and 48Y cylinders, which deviate from the ANSI 14.1 standards, containing uranium hexafluoride, Class 7. (modes 1, 3)
12844-N | RSPA-01-10753 | Delphi Automotive Systems, Troy, MI | 49 CFR 173.301(h), 173.302(a), 175.3 | To authorize the manufacture, marking, sale and use of non-DOT specification pressure vessels for use as components of automobile vehicle safety systems. (mode 1)
12845-N | 4. | Quantas Airways Limited, Los Angeles, CA | 49 CFR 175.10(b)(2) | To authorize the transportation in commerce of cylinders containing medical use compressed oxygen that exceed the present quantity limitation. (mode 5)

[FR Doc. 01-27136 Filed 10-26-01; 8:45 am]

BILLING CODE 4910-60-M